LEGAL SERVICES CORPORATION

Sunshine Act Meetings

TIME AND DATE: The Legal Services Corporation's Board of Directors and its six committees will meet October 5-7, 2014. On Sunday, October 5, the first committee meeting will commence at 3:30 p.m., Eastern Daylight Time (EDT), with each committee meeting thereafter commencing promptly upon adjournment of the immediately preceding meeting, and the Finance Committee meeting will commence at 4:30 p.m. On Monday, October 6, the first committee meeting will commence at 7:45 a.m., EDT, with each committee meeting thereafter commencing promptly upon adjournment of the immediately preceding meeting. On Tuesday, October 7, the Board of Directors meeting will commence at 8 a.m., EDT, and will continue until the conclusion of the agenda.

PLACE: Hilton Albany Hotel, 40 Lodge Street, Albany, New York 12207.

Public Observation: Unless otherwise noted herein, the Board and all committee meetings will be open to public observation. Members of the public who are unable to attend in person but wish to listen to the public proceedings may do so by following the telephone call-in directions provided below.

Call-In Directions for Open Sessions:

• Call toll-free number: 1-866-451-4981;

• When prompted, enter the following numeric pass code: 5907707348;

• When connected to the call, please immediately “MUTE” your telephone.

Members of the public are asked to keep their telephones muted to eliminate background noises. To avoid disrupting the meeting, please refrain from placing the call on hold if doing so will trigger recorded music or other sound. From time to time, the presiding Chair may solicit comments from the public.

Meeting Schedule

| * Time
Sunday, October 5, 2014
1. Operations & Regulations Committee | 3:30 p.m.
2. Delivery of Legal Services Committee
Monday, October 6, 2014
1. Audit Committee | 7:45 a.m.
2. Governance and Performance Review Committee
3. Institutional Advancement Committee
4. Finance Committee | 4:30 p.m.
Tuesday, October 7, 2014
1. Board of Directors | 8 a.m.

STATUS: Open, except as noted below.

Board of Directors—Open, except that, upon a vote of the Board of Directors, a portion of the meeting may be closed to the public to hear briefings by management and LSC's Inspector General, and to consider and act on the General Counsel's report on potential and pending litigation involving LSC and on a list of prospective funders.**

Audit Committee—Open, except that the meeting may be closed to the public to hear a briefing on the Office of Compliance and Enforcement's active enforcement matter(s) and follow-up to open investigation referrals from the Office of the Inspector General.**

* Please note that all times in this notice are in the Eastern Daylight Time.

Institutional Advancement Committee—Open, except that, upon a vote of the Board of Directors, the meeting may be closed to consider and act on a list of prospective funders, and to discuss the donor report and 40th anniversary follow-up.**

** Any portion of the closed session consisting solely of briefings does not fall within the Sunshine Act's definition of the term “meeting” and, therefore, the requirements of the Sunshine Act do not apply to such portion of the closed session. 5 U.S.C. 552b(a)(2) and (b). See also 45 CFR 1622.2 and 1622.3.

A verbatim written transcript will be made of the closed session of the Board, Audit Committee, and Institutional Advancement Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

October 5, 2014

Operations & Regulations Committee

Open Session

1. Approval of agenda

2. Approval of minutes of the Committee's Open Session meeting of July 20, 2014

3. Report on updating population data for grants to serve migratory and other agricultural workers

• Ron Flagg, General Counsel

4. Report on Rulemaking Agenda

• Ron Flagg, General Counsel

• Stefanie Davis, Assistant General Counsel

• Mark Freedman, Senior Assistant General Counsel

5. Consider and act on 45 CFR Part 1614—Private Attorney Involvement

• Ron Flagg, General Counsel

• Stefanie Davis, Assistant General Counsel

• Mark Freedman, Senior Assistant General Counsel

• Public Comment

6. Other public comment

7. Consider and act on other business

8. Consider and act on adjournment of meeting

Delivery of Legal Services Committee

Open Session

1. Approval of Agenda

2. Approval of minutes of the Committee's Open Session meeting of July 21, 2014

3. Panel presentation: The Difference That Leadership from the Judiciary Makes: How the New York State Task Force on Increasing Access to Justice Affects Legal Services Across New York

• Lillian M. Moy, Executive Director, Legal Aid Society of Northeastern New York

• William J. Hawkes, Executive Director, Neighborhood Legal Services

• C. Kenneth Perri, Executive Director, Legal Assistance of Western New York

• Paul J. Lupia, Executive Director, Legal Aid Society of Mid-New York

• Barbara Finkelstein, Executive Director, Legal Services of the Hudson Valley

• Jim Sandman, President, Legal Services Corporation (Moderator)

4. Public comment

5. Consider and act on other business

6. Consider and act on motion to adjourn the meeting

October 6, 2014

Audit Committee

Open Session

1. Approval of agenda

2. Approval of minutes of the Committee's Open Session meeting of July 21, 2014 meeting

3. Briefing by Office of Inspector General

• Jeffrey Schanz, Inspector General

4. Management update regarding risk management

• Ron Flagg, Vice President of Legal Affairs

5. Briefing about referrals by the Office of Inspector General to the Office of Compliance and Enforcement regarding matters from the annual Independent Public Accountants' audits of grantees and OIG Reports on Selected Internal Controls

• Jeffrey Schanz, Inspector General

• John Seeba, Assistant IG for Audits

• Lora Rath, Director of Compliance and Enforcement

6. Public comment

7. Consider and act on other business

Closed Session

8. Approval of minutes of the Committee's Closed Session meeting of July 21, 2014

9. Briefing by Office Compliance and Enforcement on active enforcement matter(s) and follow-up to open investigation referrals from the Office of Inspector General

• Lora Rath, Director of Compliance and Enforcement

10. Consider and act on adjournment of meeting

Governance and Performance Review Committee

Open Session

1. Approval of agenda

2. Approval of minutes of the Committee's Open Session meeting of July 20, 2014

3. Report on progress in implementing GAO Recommendations

• Carol Bergman, Director of Government Relations & Public Affairs

4. Report on Board and Committee evaluations

• Carol Bergman

5. Report on LSC research agenda

• Public Welfare Foundation Grant, Jim Sandman, President

• Margaret Cargill Foundation Grant, Jim Sandman

6. Consider and act on other business

7. Public comment

8. Consider and act on motion to adjourn meeting

Institutional Advancement Committee

Open Session

1. Approval of agenda

2. Approval of minutes of the Committee's Open Session meeting of July 20, 2014

3. Report on September 40th Anniversary Conference

4. Communications Subcommittee report

• Julie Reiskin, Chairperson, Communications Subcommittee

• Carl Rauscher, Director of Communications and Media Relations

5. Public comment

6. Consider and act on other business

Closed Session

1. Approval of minutes of the Committee's Closed Session meeting of July 20, 2014

2. Consider and act on prospective funders

3. Donor report

4. 40th Anniversary follow-up

5. Consider and act on adjournment of meeting

Finance Committee

Open Session

1. Approval of agenda

2. Approval of the minutes of the Committee's Open Session telephonic meeting of June 27, 2014

3. Approval of the minutes of the Committee's Open Session telephonic meeting of July 16, 2014

4. Approval of the minutes of the Committee's Open Session meeting of July 21, 2014

5. Presentation on LSC's Financial Reports for the ten-month period ending July 31, 2014

• David Richardson, Treasurer/Comptroller

6. Report on status of FY 2015 and FY 2016 appropriation

• Carol Bergman, Director, Government Relations and Public Affairs

7. Consider and act on Resolution #2014-XXX, Temporary Operating Authority for FY 2015

• David Richardson, Treasurer/Comptroller

8. Public comment

9. Consider and act on other business

10. Consider and act on adjournment of meeting

October 7, 2014

Board of Directors

Open Session

1. Pledge of Allegiance

2. Approval of agenda

3. Approval of minutes of the Board's Open Session meeting of July 22, 2014

4. Chairman's Report

5. Members' Reports

6. President's Report

7. Inspector General's Report

8. Consider and act on Resolution 2014-XXX in recognition of service by Thomas D. Coogan

9. Consider and act on Resolution 2014-XXX in memoriam of John Donald Robb, Jr.

10. Consider and act on the report of the Delivery of Legal Services Committee

11. Consider and act on the report of the Finance Committee

12. Consider and act on the report of the Audit Committee

13. Consider and act on the report of the Operations and Regulations Committee

14. Consider and act on the report of the Governance and Performance Review Committee

15. Consider and act on the report of the Institutional Advancement Committee

16. Report on implementation of recommendations of the Pro Bono Task Force Report and Pro Bono Innovation Fund

17. Public comment

18. Consider and act on other business

19. Consider and act on whether to authorize an executive session of the Board to address items listed below, under Closed Session

Closed Session

20. Approval of minutes of the Board's Closed Session of July 22, 2014

21. Management Briefing

22. Inspector General Briefing

23. Consider and act on General Counsel's report on potential and pending litigation involving LSC

24. Consider and act on list of prospective funders

25. Consider and act on motion to adjourn meeting

CONTACT PERSON FOR INFORMATION: Katherine Ward, Executive Assistant to the Vice President & General Counsel, at (202) 295-1500. Questions may be sent by electronic mail to FR_NOTICE_QUESTIONS@lsc.gov.

Non-confidential Meeting Materials: Non-confidential meeting materials will be made available in electronic format at least 24 hours in advance of the meeting on the LSC Web site, at http://www.lsc.gov/board-directors/meetings/board-meeting-notices/non-confidential-materials-be-considered-open-session.

Accessibility: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: September 25, 2014.
Atitaya C. Rok,
Staff Attorney.

[FR Doc. 2014-23321 Filed 9-26-14; 4:15 pm]

BILLING CODE 7050-01-P